DEPARTMENT OF ENERGY

Federal Energy Regulatory Commission

[Docket No. RP00-426-022]

Texas Gas Transmission, LLC; Notice of Proposed Changes in Ferc Gas Tariff

March 30, 2005.

Take notice that on March 25, 2005, Texas Gas Transmission, LLC, tendered for filing as part of its FERC Gas Tariff, Second Revised Volume No. 1, the following tariff sheet, to become effective March 1, 2005:

Third Revised Sheet No. 56.

The purpose of this filing is to file with the Commission a negotiated rate agreement between Texas Gas and Atmos Energy Marketing, LLC (AEM), dated February 15, 2005, to be effective March 1, 2005, and to propose Third Revised Sheet No. 56, on which it lists the negotiated rate agreement as a non-conforming agreement, in compliance with section 38.4 of the General Terms and Conditions (GT&C) of Texas Gas's tariff.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-1501 Filed 4-4-05; 8:45 am]

BILLING CODE 6717-01-P